DEPARTMENT OF VETERANS AFFAIRS

Privacy Act of 1974; System of Records

AGENCY: Department of Veterans Affairs (VA).

ACTION: Notice of Amendment to System of Records.

SUMMARY: As required by the Privacy Act of 1974, 5 U.S.C. 552a(e), notice is hereby given that the Department of Veterans Affairs (VA) is amending the system of records currently entitled, “Investigation Reports of Persons Allegedly Involved in Irregularities Concerning VA Laws, Regulations, Etc.” (11VA51) as set forth in the Federal Register 55 FR 42534. The system of records, maintained by VA's Office of Inspector General (OIG), is being amended to comply with requirements established by the Homeland Security Act of 2002 (Pub. L. 107-296, Nov. 25, 2002). The change to the system is the addition of a new routine use Number 13 to allow the disclosure of information to authorized officials within the President's Council on Integrity and Efficiency (PCIE), who are charged with the responsibility for conducting qualitative assessment reviews of investigative operations for the purpose of reporting to the President and Congress on the activities of the OIG. VA is republishing the system notice in its entirety.

DATES: Comments on the amendment of this system of records must be received no later than January 26, 2006. If no public comment is received, the amended system will become effective January 26, 2006.

ADDRESSES: You may mail or hand-deliver written comments concerning the proposed amended system of records to: Director, Regulations Management (00REG1), 810 Vermont Avenue, NW., Washington, DC 20420, Room 1068; fax (202) 273-9026; e-mail to VARegulations@mail.va.gov; or, through http://www.Regulations.gov. All comments received will be available for public inspection in the Office of Regulation Policy and Management, Room 1063B, between the hours of 8 a.m. and 4:30 p.m., Monday through Friday (except holidays). Please call (202) 273-9515 for an appointment.

FOR FURTHER INFORMATION CONTACT: Michael R. Bennett, Attorney Advisor, Department of Veterans Affairs, Office of Inspector General, 810 Vermont Avenue, NW., Washington, DC 20420; or fax comments to (202) 565-8113; or e-mail comments to michael.bennett@va.gov.

SUPPLEMENTARY INFORMATION: This publication is in accordance with the Privacy Act requirement that agencies publish their amended system of records in the Federal Register when there is revision, change, or addition. VA's Office of Inspector General (OIG) has reviewed its systems of records notices and has determined that its record system, Investigation Reports of Persons Allegedly Involved in Irregularities Concerning VA Laws, Regulations, Etc. [VA (11VA51)], must be revised to add a routine use in order to comply with the Homeland Security Act of 2002. Specifically, section 812, subsection (7) of the Act reads as follows: “To ensure the proper exercise of the law enforcement powers authorized by this subsection, the Offices of Inspector General described under paragraph (3) shall, not later than 180 days after the date of enactment of this subsection, collectively enter into a memorandum of understanding to establish an external review process for ensuring that adequate internal safeguards and management procedures continue to exist within each Office and within any Office that later receives an authorization under paragraph (2) the review process shall be established in consultation with the Attorney General.” The additional routine use would allow the disclosure of information to authorized officials within the President's Council on Integrity and Efficiency, the Department of Justice, and the Federal Bureau of Investigation, as necessary, for the purpose of conducting qualitative assessment reviews of the OIG's investigative operations to ensure that adequate safeguards and management procedures are maintained.

The Report of Intent to Amend a System of Records Notice and an advance copy of the system notice have been sent to the appropriate Congressional committees and to the Director of the Office of Management and Budget (OMB) as required by 5 U.S.C. 552a(r) (Privacy Act) and guidelines issued by OMB (65FR 77677), December 12, 2000.

Approved: December 6, 2005.
Gordon H. Mansfield,
Deputy Secretary of Veterans Affairs.

SYSTEM NUMBER: 11VA51

System Name:

Investigation Reports of Persons Allegedly Involved in Irregularities Concerning VA Laws, Regulations, Etc.

Security Classification:

Some of the material contained in the system has been classified in the interests of national security pursuant to Executive Order 11652.

System Location:

This system is located in the VA Office of Inspector General, 810 Vermont Avenue, NW., Washington, DC 20420. The database for the system, known as the Master Case Index (MCI), is on a local area network in the VA OIG building and is operated by the Office of Management and Administration.

Categories of Individuals Covered by the System:

Individuals covered by the system are employees, veterans, and third parties such as contractors who conduct official business with VA.

Categories Of Records In The System:

Authority for Maintenance of the System:

38 U.S.C. 210 (c) (i); Title 5, U.S.C., Appendix 1, section 7 (a).

Purpose(s):

The system serves as a basis for taking civil, criminal, and administrative actions, including the issuance of subpoenas, security clearances, suitability determinations, and similar authorized activities.

Routine Uses of Records Maintained in the System, Including Categories of Users and the Purposes of Such Uses:

Records are used by VA officials and representatives of other government agencies on a need-to-know basis in the performance of their official duties and authorities set forth above and for the following routine uses:

1. The record of an individual who is covered by this system may be disclosed to a member or staff person acting for the member when the member or staff person requests the records on behalf of and at the request of that individual.

2. Any information in this system may be disclosed to a Federal agency, upon its official request, to the extent that it is relevant and necessary to that agency's decision regarding: The hiring, retention or transfer of an employee, the issuance of a security clearance, the letting of a contract, or the issuance or continuance of a license, grant or other benefit given by that agency. However, in accordance with an agreement with the U.S. Postal Service, disclosures to the U.S. Postal Service for decisions concerning the employment of veterans will only be made with the veteran's prior written consent.

3. Any information in this system may be disclosed to a State or local agency, upon its official request, to the extent that it is relevant and necessary to that agency's decision on: The hiring, transfer or retention of an employee, the issuance of a security clearance, the letting of a contract, or the issuance or continuance of a license, grant or other benefit by the agency; provided, that if the information pertains to a veteran, the name and address of the veteran will not be disclosed unless the name and address is provided first by the requesting State or local agency.

4. Any information in this system, except the name and address of a veteran, may be disclosed to a Federal, State, or local agency maintaining civil or criminal violation records, or other pertinent information such as prior employment history, prior Federal employment background investigations, and/or personal or educational background in order for the VA to obtain information relevant to the hiring, transfer or retention of an employee, the letting of a contract, the granting of a security clearance, or the issuance of a grant or other benefit. The name and address of a veteran may be disclosed to a Federal agency in order to respond to the VA inquiry.

5. Any information in this system, except the name and address of a veteran, which is relevant to a suspected violation or reasonably imminent violation of law, whether civil, criminal or regulatory in nature and whether arising by general or program statute or by regulation, rule or order issued pursuant thereto, may be disclosed to a Federal, State, local or foreign agency charged with the responsibility of investigating or prosecuting such violation, or charged with enforcing or implementing the statute, regulation, rule or order issued pursuant thereto.

6. The name and address of a veteran, which is relevant to a suspected violation or reasonably imminent violation of law, whether civil, criminal or regulatory in nature and whether arising by general or program statute or by regulation, rule or order issued pursuant thereto, may be disclosed to a Federal agency charged with the responsibility of investigating or prosecuting such violation, or charged with enforcing or implementing the statute, regulation, rule or order issued enforcing or implementing the statute, regulation, rule or order issued pursuant thereto, in response to its official request.

7. The name and address of a veteran, which is relevant to a suspected violation or reasonably imminent violation of law concerning public health or safety, whether civil, criminal or regulatory in nature and whether arising by general or program statute or by regulation, rule of order issued pursuant thereto, may be disclosed to any foreign, State or local governmental agency or instrumentality charged under applicable law with the protection of the public health or safety if a qualified representative of such organization, agency or instrumentality has made a written request that such name and address be provided for a purpose authorized by law.

8. Any information in this system may be disclosed to a Federal grand jury, a Federal court or a party in litigation, or a Federal agency or party to an administrative proceeding being conducted by a Federal agency, in order for the VA to respond to and comply with the issuance of a Federal subpoena.

9. Any information in this system may be exposed to a State or municipal grand jury, a State or municipal court or party in litigation, or to a State or municipal administrative agency functioning in a quasi-judicial capacity or a party to a proceeding being conducted by such agency, in order for the VA to respond to and comply with the issuance of a State or municipal subpoena; provided, that any disclosure of claimant information concerning a veteran-claimant made under this routine use must comply with the provisions of 38 CFR 1.511.

10. Any information in this system may be disclosed to the Office of Special Counsel, upon its official request, when required for the Special Counsel's review of the complainant's allegations of prohibited personnel practices.

11. The name, address, and other identifying data, including title, date and place of birth, Social Security number, and summary information concerning an individual who, for fraudulent or deceitful conduct either as an employee or while conducting or seeking to conduct business with the Agency, has been convicted of violating Federal or State law or has been debarred or suspended from doing business with the VA, may be furnished to other Federal agencies to assist such agencies in preventing and detecting possible fraud or abuse by such individual in their operations and programs. This routine use applies to all information in this System of Records which can be retrieved by name or by some identifier assigned to an individual in a personal or in an entrepreneurial capacity.

12. Records from this system of records may be disclosed to a Federal Agency or to a State or local government licensing board and/or to the Federation of State Medical Boards or a similar nongovernment entity which maintains records concerning individuals' employment histories or concerning the issuance, retention or revocation of licenses, certifications, or registration necessary to practice an occupation, profession or specialty, in order for the Agency to obtain information relevant to an Agency decision concerning the hiring, retention or termination of an employee or to inform a Federal Agency or licensing boards or the appropriate nongovernment entities about the health care practices of a terminated, resigned or retired health care employee whose professional health care activity so significantly failed to conform to generally accepted standards of professional medical practice as to raise reasonable concern for the health and safety of patients in the private sector or from another Federal Agency. These records may also be disclosed as part of an ongoing computer matching program to accomplish these purposes.

13. A record may be disclosed to any official charged with the responsibility to conduct qualitative assessment reviews of internal safeguards and management procedures employed in investigative operations. This disclosure category includes members of the President's Council on Integrity and Efficiency and officials and administrative staff within their investigative chain of command, as well as authorized officials of the Department of Justice and the Federal Bureau of Investigation.

Policies and Practices for Storing, Retrieving, Accessing, Retaining, and Disposing of Records in the System:

Storage:

Records are maintained on paper in individual file folders, on index cards, and on electronic media.

Retrievability:

File cards may be indexed by the last name of the subject(s) of an investigation. File folders containing reports of investigation and summaries of the reports are individually retrievable by means of a cross indexing with file cards.

Safeguards:

Access to the file folders and file cards (which are kept in cabinets) is restricted to authorized personnel on a need-to-know basis. The file room and cabinets are locked after duty hours, and the building is protected from unauthorized access by a protective service.

Retention and Disposal:

Investigation reports are maintained by the Office of Inspector General until final action is taken. Once final action has been taken, the report is sent to the VACO Records Management Section where it is maintained for 5 years. It is then forwarded to the Federal Records Center where it is maintained for 25 years and then destroyed by shredding. File cards and summaries of all investigations are maintained by the Office of Inspector General for 30 years and then destroyed by shredding.

System Manager(s) and Address:

Assistant Inspector General for Investigations (51), VA Central Office, 810 Vermont Avenue, NW., Washington, DC 20420.

Notification Procedure:

An individual who wishes to determine whether a record is being maintained by the Assistant Inspector General for Investigations under his or her name in this system or wishes to determine the contents of such records should submit a written request or apply in person to the Assistant Inspector General for Investigations (51). However, a majority of records in this system are exempt from the notification requirement in 5 U.S.C. 552a (j) and (k). To the extent that records in this system of records are not subject to exemption, they are subject to notification. A determination as to whether an exemption applies shall be made at the time a request for notification is received.

Record Access Procedure:

An individual who seeks access to or wishes to contest records maintained under his or her name in this system may write, call or visit the Assistant Inspector General for Investigations (51). However, a majority of records in this system are exempt from the record access and contesting requirement under 5 U.S.C. 552a (j) and (k). To the extent that records in this system of records are not subject to exemption, they are subject to access and contest. A determination as to whether an exemption applies shall be made at the time a request for access or contest is received.

Contesting Record Procedures:

(See Record Access Procedures above.)

Record Source Categories:

Information is obtained from third-party organizations such as schools and financial institutions, VA employees, veterans and VA records.

Systems Exempted from Certain Provisions of the Act:

Under 5 U.S.C. 552a(j)(2), the head of any agency may exempt any system of records within the agency from certain provisions of the Privacy Act, if the agency or component that maintains the system performs as its principal function any activities pertaining to the enforcement of criminal laws. The Inspector General Act of 1978, Public Law 95-452, mandates the Inspector General to recommend policies for, and to conduct, supervise and coordinate activities in the Department of Veterans Affairs and between the Department of Veterans Affairs and other Federal, State and local governmental agencies with respect to all matters relating to the prevention and detection of fraud in programs and operations administered or financed by the Department of Veterans Affairs and to the identification and prosecution of participants in such fraud. Under the Act, whenever the Inspector General has reasonable grounds to believe there has been a violation of Federal criminal law, the Inspector General must report the matter expeditiously to the Attorney General.

This system of records has been created in major part to support the criminal law-related activities assigned by the Inspector General to the Office of Investigations. These activities constitute the principal function of this staff.

In addition to principal functions pertaining to the enforcement of criminal laws, the Inspector General may receive and investigate complaints or information from various sources concerning the possible existence of activities constituting non-criminal violations of law, rules or regulations, or mismanagement, gross waste of funds, abuses of authority or substantial and specific danger to the public and safety. This system of records also exists to support inquiries by the Assistant Inspector General for Investigations into these non-criminal violation types of activities.

Based upon the foregoing, the Department of Veterans Affairs Secretary has exempted this system of records, to the extent that it encompasses information pertaining to criminal law-related activities, from the following provisions of the Privacy Act of 1974, as permitted by 5 U.S.C. 552a(j)(2):

5 U.S.C. 552a(c)(3) and (4);

5 U.S.C. 552a(d);

5 U.S.C. 552a(e)(1), (2) and (3);

5 U.S.C. 552a(e)(4) (G), (H) and (I);

5 U.S.C. 552a(e)(5) and (8);

5 U.S.C. 552a(f);

5 U.S.C. 552a(g).

The Department of Veterans Affairs Secretary has exempted this system of records, to the extent that it does not encompass information pertaining to criminal law-related activities under 5 U.S.C. 552a(j)(2), from the following provisions of the Privacy Act of 1974, as permitted by 5 U.S.C. 552a(k)(2): 5 U.S.C. 552a(c)(3); 5 U.S.C. 552a(d); 5 U.S.C. 552a(e)(1); 5 U.S.C. 552a(e)(4)(G), (H) and (I); 5 U.S.C. 552a(f).

Reasons for Exemptions:

The exemption of information and material in this system of records is necessary in order to accomplish the law enforcement functions of the Office of Inspector General, to prevent subjects of investigations from frustrating the investigatory process, to prevent the disclosure of investigative techniques, to fulfill commitments made to protect the confidentiality of sources, to maintain access to sources of information and to avoid endangering these sources and law enforcement personnel.

[FR Doc. E5-7802 Filed 12-23-05; 8:45 am]

BILLING CODE 8320-01-P